DEPARTMENT OF COMMERCE

National Oceanic and Atmospheric Administration

RIN 0648-XC98

Vessel Monitoring Systems; Approval of Mobile Transceiver Unit

AGENCY: National Marine Fisheries Service (NMFS), National Oceanic and Atmospheric Administration (NOAA), Commerce.

ACTION: Notice.

SUMMARY: This document provides notice of the type-approval of the Faria WatchDog 750VMS for use in the Northwestern Hawaiian Islands Marine National Monument.

ADDRESSES: To obtain copies of the list of NOAA-approved Vessel Monitoring Systems (VMS) Mobile Transceiver Unit and VMS Mobile Communications Service Providers, or to obtain information regarding the status of VMS systems being evaluated by NOAA, write to the VMS Support Center, NOAA Fisheries Service, Office for Law Enforcement (OLE), 8484 Georgia Avenue, Suite 415, Silver Spring, MD 20910; or call toll free 888-219-9228.

FOR FURTHER INFORMATION CONTACT: For questions regarding the status of VMS evaluations contact Jonathan Pinkerton, National VMS Program Manager by phone: 301-427-2300 or by fax: 301-427-2055.

SUPPLEMENTARY INFORMATION: The WatchDog 750VMS manufactured and sold by Faria WatchDog, Inc. has satisfied the requirements for type-approval for use in the Northwestern Hawaiian Islands Marine National Monument.

Faria WatchDog 750VMS

The transceiver consists of an integrated dual mode GPS/GSM/GPRS/Iridium Satellite Communicator mounted in the wheelhouse or on a console and antennas mounted atop the vessel. The MTU also includes a 7 inch color touch screen display that enables vessel operators to send and receive e-mail and electronic forms. The unit is pre-configured and tested for NOAA Fisheries Service VMS operations. Authorized dealers who are listed at http://www.vmstracking.com provide satellite commissioning services.

Automatic GPS position reporting starts after transceiver installation and power activation onboard the vessel. The unit is a car radio sized transceiver powered by any 9 to 16 VDC power supply. The unit can be factory configured for automatic reduced position transmissions when the vessel is stationary (i.e., in port) which allows for port stays in a reduced power state and without the need for unit shut down. The unit restarts normal position transmission automatically when the vessel goes to sea.

The unit has an omni-directional Iridium, GPS, and GSM/GPRS antennas, providing operation from 5 degrees above or below the horizon anywhere on earth. The GSM/GPRS capability gives the system the additional ability to communicate through the AT&T wireless network where available. Iridium only units are permitted for use in the Northwestern Hawaiian Islands Marine National Monument.

A configuration option is available to automatically send daily status reports to a private e-mail address. A 2 inch user interface is included with this system that displays if the MTU is operating properly and can send emergency notification messages to up to four e-mail addresses and/or telephone numbers. A complete list of options is available from the VMS provider.

A vessel owner may purchase the Faria Watchdog 750VMS and the Iridium/GSM communications service by contacting a Faria Watchdog Inc., authorized reseller. Reseller information can be found on the internet at www.vmstracking.com. Alternatively vessel owners may contact, Faria WatchDog Inc., 385 Norwich-New London Turnpike, Uncasville, CT 06382, 1-877-888-5569, 860 848 2704 fax, information@fariawatchdog.com e-mail. The owner should identify himself or herself as a vessel owner and identify which VMS required fishery they wish to participate in.

Dated: October 22, 2007.
William T. Hogarth,
Assistant Administrator for Fisheries, National Marine Fisheries Service.

[FR Doc. E7-21087 Filed 10-25-07; 8:45 am]

BILLING CODE 3510-22-S